DEPARTMENT OF COMMERCE

International Trade Administration

[A-405-803]

Purified Carboxymethylcellulose From Finland: Extension of Time Limit for Preliminary Results of Antidumping Duty Administrative Review

AGENCY: Import Administration, International Trade Administration, Department of Commerce.

DATES: Effective Date: July 8, 2010.

FOR FURTHER INFORMATION CONTACT: Tyler Weinhold or Robert James, Import Administration, International Trade Administration, U.S. Department of Commerce, 14th Street and Constitution Avenue, NW., Washington, DC 20230; telephone: (202) 482-1121 and (202) 482-0649, respectively.

SUPPLEMENTARY INFORMATION:

Background

At the request of interested parties, on August 25, 2009, the Department published in the Federal Register a notice of initiation of this antidumping duty administrative review. See Initiation of Antidumping and Countervailing Duty Administrative Reviews and Requests for Revocation in Part, 74 FR 42873, August 25, 2009. The review covers the period July 1, 2008, through June 30, 2009. On January 21, 2010, the Department published an extension of the deadline for the preliminary results of review, setting a new deadline of June 30, 2010. See Purified Carboxymethylcellulose From Finland: Extension of Time Limit for Preliminary Results of Antidumping Duty Administrative Review, 75 FR 3444 (January 21, 2010). In addition, the Department exercised its discretion to toll the deadline an additional seven days to account for the closure of the federal government from February 5, 2010, to February 12, 2010. See Memorandum to the File from Ronald K. Lorentzen, DAS for Import Administration, “Tolling of Administrative Deadlines As a Result of the Government Closure During the Recent Snowstorm,” dated February 12, 2010. As a result, the preliminary results for this administrative review are currently due no later than July 7, 2010.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the 245 day time period for the preliminary results up to 365 days.

The Department has determined it is not practicable to complete this review within the present deadline because we require additional time to complete our analysis of the respondent's cost-of-production data and to analyze other information needed for our preliminary results. Accordingly, the Department is extending the time limits for completion of the preliminary results of this administrative review until no later than August 2, 2010. We intend to issue the final results in this review no later than 120 days after publication of the preliminary results.

This notice is issued and published in accordance with sections 751(a)(3)(A) and 777(i) of the Act.

Dated: June 25, 2010.
John M. Andersen,
Acting Deputy Assistant Secretary for Antidumping and Countervailing Duty Operations.

[FR Doc. 2010-16665 Filed 7-7-10; 8:45 am]

BILLING CODE 3510-DS-P